DEPARTMENT OF DEFENSE

Office of the Secretary

[Docket ID: DoD-2022-OS-0119]

Department of Defense Science and Technology Reinvention Laboratory Personnel Demonstration Project Program

AGENCY: Under Secretary of Defense for Research and Engineering (USD(R&E)), Department of Defense (DoD).

ACTION: This notice provides new student and recent graduate direct hire authority to all Science and Technology Reinvention Laboratories (STRL) with published Personnel Demonstration (Demo) Project plans.

SUMMARY: STRLs may implement a direct hire authority for students and recent graduates for occupations which do not require expertise in science, technology, engineering, or mathematics (STEM). The Professional, Administrative, Assistant, Clerical and Technician Student Employment Program (PAACTSEP) is a student program which permits appointment and noncompetitive conversion to the competitive service for qualified candidates who are enrolled in a qualifying educational institution.

DATES: This proposal may not be implemented until a 30-day comment period is provided, comments addressed, and a final Federal Register notice published. To be considered, written comments must be submitted on or before November 16, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT:

Department of Defense:

• Office of Under Secretary of Defense (Research and Engineering), Laboratories and Personnel Office: Dr. Jagadeesh Pamulapati, 571-372-6372, Jagadeesh.pamulapati.civ@mail.mil.

Department of the Air Force:

• Air Force Research Laboratory: Ms. Rosalyn Jones-Byrd, 937-656-9747, Rosalyn.Jones-Byrd@us.af.mil.

• Joint Warfare Analysis Center: Ms. Amy Balmaz, 540-653-8598, Amy.T.Balmaz.civ@mail.mil.

Department of the Army:

• Army Futures Command: Ms. Marlow Richmond, 830-469-2057,

Marlowe.Richmond.civ@army.mil.

• Army Research Institute for the Behavioral and Social Sciences: Dr. Scott Shadrick, 254-288-3800, Scottie.B.Shadrick.civ@army.mil.

• Combat Capabilities Development Command Armaments Center: Mr. Mike Nicotra, 973-724-7764, Michael.J.Nicotra.civ@mail.mil.

• Combat Capabilities Development Command Army Research Laboratory: Mr. Christopher Tahaney, 410-278-9069, Christopher.S.Tahaney.civ@army.mil.

• Combat Capabilities Development Command Aviation and Missile Center: Ms. Nancy Salmon, 256-876-9647, Nancy.C.Salmon2.civ@army.mil.

• Combat Capabilities Development Command Chemical Biological Center: Ms. Patricia Milwicz, 410-417-2343, Patricia.L.Milwicz.civ@army.mil.

• Combat Capabilities Development Command Command, Control, Communications, Computers, Cyber, Intelligence, Surveillance, and Reconnaissance Center: Ms. Angela Clybourn, 443-395-2110, Angela.M.Clyborn.civ@army.mil.

• Combat Capabilities Development Command Ground Vehicle Systems Center: Ms. Jennifer Davis, 586-306-4166, Jennifer.L.Davis1.civ@army.mil.

• Combat Capabilities Development Command Soldier Center: Ms. Joelle Montecalvo, 508-206-3421, Joelle.K.Montecalvo.civ@army.mil.

• Engineer Research and Development Center: Ms. Patricia Sullivan, 601-634-3065, Patricia.M.Sullivan@usace.army.mil.

• Medical Research and Development Command: Ms. Linda Krout, 301-619-7276, Linda.J.Krout.civ@mail.mil.

• Technical Center, Space and Missile Defense Command: Dr. Chad Marshall, 256-955-5697, Chad.J.Marshall.civ@army.mil.

Department of the Navy:

• Naval Air Warfare Center, Weapons Division and Aircraft Division: Mr. Richard Cracraft, 760-939-8115, Richard.A.Cracraft2.civ@us.navy.mil.

• Naval Facilities Engineering Command Engineering and Expeditionary Warfare Center: Ms. Lori Leigh, 805-901-5917, Lori.A.Leigh@us.navy.mil.

• Naval Information Warfare Centers:

○ Naval Information Warfare Center Atlantic: Mr. Michael Gagnon, 843-218-3871, Michael.L.Gagnon2.civ@us.navy.mil.

○ Naval Information Warfare Center Pacific: Ms. Angela Hanson, 619-553-0833, Angela.Y.Hanson.civ@us.navy.mil.

• Naval Medical Research Center: Dr. Jill Phan, 301-319-7645, Jill.C.Phan.civ@mail.mil.

• Naval Research Laboratory: Ms. Ginger Kisamore, 202-767-3792, Ginger.Kisamore@nrl.navy.mil.

• Naval Sea Systems Command Warfare Centers: Ms. Diane Brown, 215-897-1619, Diane.J.Brown.civ@us.navy.mil.

• Office of Naval Research: Ms. Margaret J. Mitchell, 703-588-2364, Margaret.J.Mitchell@navy.mil.

SUPPLEMENTARY INFORMATION: STRLs may appoint students to flexible length and renewable student term or temporary appointments and may appoint recent graduates to temporary, term, or permanent appointments without regard to subchapter I of chapter 33 of title 5 United States Code (U.S.C.) (other than sections 3303 and 3328). This direct hire authority is similar to the student direct hire authority in 10 U.S.C. 4091, as implemented in the STEM Student Employment Program (SSEP) published in 82 FR 29280, except it is for students seeking employment in professional, administrative, assistant, clerical, and technician positions.

1. Background

As authorized by 10 U.S.C. 4121, the Secretary of Defense (SECDEF), through the USD(R&E), may conduct personnel demonstration projects at DoD laboratories designated as STRLs. STRLs implementing this flexibility must have an approved personnel management demonstration project plan published in a FRN and must fulfill any collective bargaining obligations. Each STRL will establish internal operating procedures (IOPs) as appropriate.

The 21 current STRLs are:

• Air Force Research Laboratory

• Joint Warfare Analysis Center

• Army Futures Command

• Army Research Institute for the Behavioral and Social Sciences

• Combat Capabilities Development Command Armaments Center

• Combat Capabilities Development Command Army Research Laboratory

• Combat Capabilities Development Command Aviation and Missile Center

• Combat Capabilities Development Command Chemical Biological Center

• Combat Capabilities Development Command Command, Control, Communications, Computers, Cyber, Intelligence, Surveillance, and Reconnaissance Center

• Combat Capabilities Development Command Ground Vehicle Systems Center

• Combat Capabilities Development Command Soldier Center

• Engineer Research and Development Center

• Medical Research and Development Command

• Technical Center, U.S. Army Space and Missile Defense Command

• Naval Air Systems Command Warfare Centers

• Naval Facilities Engineering Command Engineering and Expeditionary Warfare Center

• Naval Information Warfare Centers, Atlantic and Pacific

• Naval Medical Research Center

• Naval Research Laboratory

• Naval Sea Systems Command Warfare Centers

• Office of Naval Research

2. Overview

I. Introduction

A. Purpose

In addition to leveraging existing student and recent graduate hiring flexibilities to pursue scientific and engineering (S&E) talent, STRLs may implement additional flexibilities to recruit for other occupations, to include professional, administrative, and technical occupations, in order to support, maintain and advance each STRL's technologies and mission.

The purpose of this direct-hire authority is to create a streamlined and accelerated hiring and appointment process to access a pipeline of high-quality students and recent graduates and successfully compete with private industry when filling STRL professional, administrative, assistant, clerical, and technician positions.

To effectively implement PAACTSEP this FRN:

1. Establishes a student program which aligns students appointed under this authority to a pay band or grade commensurate with education and experience.

2. Applies the flexible length and renewable student term appointment authority in 82 FR 29280 for SSEP students to PAACTSEP students appointed for a period of at least one year. This flexible length and renewable student term appointment may be for a period of more than one year but not more than six years, and may be extended in up to six-year increments. This authority provides a mechanism for students appointed under PAACTSEP to remain on a term appointment until completion of their educational program.

3. Establishes a temporary appointment authority for PAACTSEP students or recent graduates appointed for less than one year.

4. Establishes a student bonus authority designed to improve competitiveness with private industry in recruiting and retaining high caliber students. The bonus may be used to compensate PAACTSEP students for expenses related to program participation, to include, but not limited to, travel expenses when the worksite is in a different geographic location than that of the student's academic institution. STRLs also have authority to pay relocation expenses each time the student returns to duty at the laboratory.

B. Required Waivers to Law and Regulation

Waivers and adaptations of certain title 5 U.S.C. and 5 Code of Federal Regulations (CFR) provisions are required only to the extent that these statutory and regulatory provisions limit or are inconsistent with the actions authorized under these demonstration projects. Nothing in this plan is intended to preclude the STRLs from adopting or incorporating any law or regulation enacted, adopted, or amended after the effective date of this notice.

C. Expected Benefits

This direct-hire authority and student program is expected to streamline the hiring of high-quality students to enable the STRLs to compete with private industry in recruiting and retaining recent graduates. This program covers students enrolled in qualifying educational institutions and certificate programs, as those terms are defined in 5 CFR 362.102. This competitive service direct-hire and noncompetitive conversion authority enhances the ability of STRLs to compete with private industry by improving recruiting efforts, providing clear career paths, and offering career progression opportunities for a large and diverse population of students and recent graduates who may not otherwise consider joining the STRL workforce.

D. Participating Organizations and Employees

All DoD laboratories designated as STRLs pursuant to 10 U.S.C. 4121, with approved personnel demonstration project plans published in FRNs may use the provisions described in this FRN after the fulfillment of any collective bargaining obligations.

II. Personnel System Changes

A. Authority

STRLs may use the direct-hire authority to appoint students enrolled in qualifying educational institutions and certificate programs, as those terms are defined in 5 CFR 362.102. During each calendar year, each STRL may use this authority to appoint no more than 25 percent of the total number of non-STEM professional, administrative, assistant, clerical, and technician positions within the STRL that are filled at the close of the previous fiscal year. STRLs may appoint students to temporary or flexible length and renewable student term appointments in the competitive service and may appoint recent graduates to temporary, term, or permanent appointments in the competitive service. STRLs may provide eligible students noncompetitive conversion to term or permanent positions upon satisfaction of the graduation or certification requirements of the secondary or post-secondary educational institution and qualification requirements established by the Office of Personnel Management (OPM) for the position.

B. Definitions

1. STRL PAACTSEP positions are those non-STEM professional, administrative, assistant, clerical, and technician positions described in STRL IOPs, to include General Schedule positions.

2. As provided in 5 CFR 362.102, the following secondary and post-secondary educational institutions are a “qualifying educational institution”:

(a) A public high school whose curriculum has been approved by a State or local governing body, a private school that provides secondary education as determined under State law, or a homeschool that is allowed to operate in a State; and

(b) Any of the following educational institutions or curricula that have been accredited by an accrediting body recognized by the Secretary of the U.S. Department of Education:

(i) A technical or vocational school;

(ii) A 2-year or 4-year college or university;

(iii) A graduate or professional school (e.g., law school, medical school); or

(iv) A post-secondary homeschool curriculum.

3. Qualified candidates are defined as:

(a) Students who are enrolled in a qualifying educational institution or a certificate program as defined by 5 CFR 362.102. The qualifications in appendix C will apply to PAACTSEP appointments. Appointments may be at the highest grade or pay band for which the participant is qualified. Promotion requirements will be published in STRL IOPs.

(b) Recent graduates are those individuals who have completed the graduation requirements of a qualifying educational institution or the certification requirements of a certificate program as defined in 5 CFR 362.102.

4. “Employee” is defined by 5 U.S.C. 2105.

C. Provisions

1. Announcement and Assessment Process. Public notice is not required; however, if posting job opportunity announcements or advertisements, STRLs will ensure announcements and advertisements are concise and easily understood. If STRLs choose to advertise, the STRL IOPs will contain procedures for advertising positions pursuant to this authority in a manner that is most likely to provide diverse and qualified candidates and ensure potential applicants have appropriate information relevant to the positions available. Procedures must be consistent with merit system principles. Candidates will be assessed against job-related criteria, ensuring that applicants have the skills and behavioral attributes that lead to success in the position. Selectees for entry level positions requiring the Administrative Careers With America (ACWA) assessment must be assessed using the most recent, streamlined ACWA examination or a validated alternative assessment instrument (e.g., select USA HIRE assessments).

2. Appointments and Conversions.

(a) Students.

(1) Students may be initially appointed to pay banded or one- or two-grade interval positions for which they qualify in order to prepare them for conversion to the target position in a related pay band level or grade and occupational series upon completion of their academic degree or certificate program. Students being converted to positions requiring the ACWA assessment must be assessed as described in paragraph 2.II.C.1.

(2) Students may be appointed to temporary or flexible length and renewable student term positions.

a. Temporary Appointment. Temporary appointments are typically used for short-term use (e.g., summer employment), however, temporary appointments may be made for up to one year and may be extended provided the criteria for the student appointment continues to be met.

b. Flexible Length and Renewable Student Term Appointment. The flexible length and renewable student term appointment authorized in 82 FR 29280 will be utilized for PAACTSEP students appointed for a period of at least one year but not more than six years. The appointment may be extended in up to six-year increments, and for the purposes of the PAACTSEP will expire 120 days after completion of the designated certificate program or academic course of study, unless the human resources office has been notified of the STRL's plan to noncompetitively convert the student to a new term or permanent position or to terminate the student. The eligibility criteria for the student appointment must continue to be met for the duration of the appointment. The duration of a PAACTSEP flexible length and renewable student term appointment is considered a trial period.

(3) Promotion. Students may be promoted while serving on the flexible length and renewable student term appointment to a higher grade/pay band level provided the student meets the program and qualification requirements for the position. Students may not be promoted while serving on a temporary appointment but may be converted to a new appointment at a higher grade/pay band level provided the student meets the qualification requirements for the higher grade/pay band position. Promotion requirements will be published in STRL IOPs.

(4) Qualified candidates may be appointed to STRL PAACTSEP positions without regard to the provisions of subchapter I of 5 U.S.C. chapter 33 (other than sections 3303 and 3328). The provisions of the career transition assistance programs in subparts B, F, and G of 5 CFR part 330 do not apply.

(5) When documenting personnel actions for PAACTSEP students, cite the first LAC/legal authority as Z2U/10 U.S.C. 4121 if appointing to pay band positions. Also cite LAC/legal authority Z5C/Direct-Hire Auth (STRL-PAACTSEP Students). If appointing to General Schedule, cite the first LAC/legal authority as Z5C/Direct-Hire Auth (STRL-PAACTSEP Students).

(b) Noncompetitive Conversion to Non-Student Appointment. PAACTSEP students on temporary or flexible length and renewable student term appointments may be noncompetitively converted to a term or permanent appointment upon program certification or graduation from the applicable institution of higher learning, provided the student meets all eligibility criteria and OPM qualification requirements for the position.

(1) The conversion request must be submitted to the human resources office within 120 days of completion of all degree requirements, but before the time-limited appointment expires.

(2) The provisions of the career transition assistance programs in subparts B, F, and G of 5 CFR part 330 do not apply to the noncompetitive conversions.

(3) When documenting personnel actions for noncompetitive conversions of PAACTSEP students to permanent or term appointments cite the first legal authority code (LAC)/legal authority as Z2U/10 U.S.C. 4121, if to a pay banded position. The second LAC/legal authority will be Z5C/Direct-Hire Auth (STRL-PAACTSEP Conv). If to General Schedule, cite the first LAC/legal authority as Z5C/Direct-Hire Auth (STRL-PAACTSEP Conv).

(c) Recent graduates.

Recent graduates may be appointed directly to the pay band level or grade and occupational series for which they qualify.

(1) Recent graduate appointments may be made on a temporary, term, or permanent basis.

(2) Qualified candidates may be appointed to STRL competitive service positions without regard to the provisions of subchapter I of 5 U.S.C. chapter 33 (other than sections 3303 and 3328). The provisions of the career transition assistance programs in subparts B, F, and G of 5 CFR part 330 do not apply.

(3) To be eligible, applicants must apply within two years of degree or certification (except for veterans precluded from doing so due to their military service obligation, who have up to two years after release from military service, to apply).

(4) When documenting personnel actions for recent graduates, cite the first LAC/legal authority as Z2U/10 U.S.C. 4121 if appointing to pay band positions. The second LAC/legal authority will be Z5C/Direct-Hire Auth (STRL Recent Graduate). If to General Schedule, cite the first LAC/legal authority as Z5C/Direct-Hire Auth (STRL Recent Graduate).

3. Classification/Pay Bands/Career Tracks. STRLs will use their existing pay band/career track level(s) to accommodate students hired under the PAACTSEP authority. Specific details regarding student classification pay band/career track level(s) will be included in STRL IOPs.

4. Probationary Period. PAACTSEP students converted to permanent, competitive service positions in a similar line of work without a break in service, may have time spent in the student program credited toward probationary period completion in accordance with 5 CFR 315.802, or an approved STRL Lab Demo extended probationary period requirement. STRL recent graduates will serve a probationary period in accordance with 5 CFR 315.802, or an approved STRL Lab Demo extended probationary period.

5. Career Tenure. Time spent under flexible length and renewable student term appointments counts toward career tenure. Time spent under a temporary appointment is not counted toward career tenure unless the student was converted from a temporary appointment to a flexible length and renewable student term appointment without a break in service of three days and was subsequently converted to a permanent position.

6. Recruitment and Pay Flexibilities.

(a) Tuition Assistance.

(1) Students may be eligible for tuition assistance. At the STRL Director's discretion, a student may be required to sign a written service agreement to continue in service for a period of up to three times the length of the time spent in training prior to accepting tuition assistance. The requirement for the length of the service obligation will be included in STRL IOPs.

(2) A student who is eligible to continue employment for the duration of the obligated service and who does not fulfill the service obligation may be required to provide repayment pursuant to 5 CFR 410.309(c).

(3) Expenses of training. PAACTSEP students may be paid travel expenses in the form of a student bonus or relocation incentive when the worksite is in a different geographic location than that of the student's academic institution. Pursuant to 5 U.S.C. 4109(a)(2), these expenses are considered training expenses and may be paid each time the student returns to duty to the STRL. Procedures for paying these expenses shall be documented in STRL IOPs.

(b) Pay Flexibilities.

(1) STRLs may use any applicable pay flexibility (e.g., recruitment, relocation, and retention incentives under 5 CFR part 575; student loan repayments under 5 CFR part 537 and 82 FR 78829; superior qualifications and special needs pay setting authority; maximum payable rate rule under 5 CFR part 531, subpart B; or demonstration project pay and bonus flexibilities). Procedures for paying these flexibilities shall be documented in STRL IOPs.

(2) Relocation Expenses. PAACTSEP students may receive a relocation incentive under 5 CFR part 575 to help with relocation expenses. The authority to pay relocation expenses is expanded to allow an STRL to pay a relocation incentive each time the student returns to duty at the laboratory. This authority applies to all PAACTSEP student positions in the STRLs and provides the ability to expand recruitment to top universities and incentivize mobility by paying additional expenses to students who accept employment outside of their geographic area. A relocation incentive may be paid when the worksite is in a different geographic location than that of the student's college and is intended to cover some or all the student's living expenses while working in the STRL. Procedures for paying these incentives shall be documented in STRL IOPs.

(3) Student bonus. A student bonus may be used to compensate PAACTSEP students without the requirement for a continuing service agreement as determined by the STRL. PAACTSEP students may be granted a student bonus for expenses related to PAACTSEP participation to include, but not limited to, travel expenses when the worksite is in a different geographic location than that of the student's academic institution. The student bonus is not part of basic pay. STRLs may pay the student bonus each time the student returns to duty at the laboratory. The use of this bonus will help to improve the STRLs competitiveness with private industry in recruiting and retaining high caliber students.

D. Personnel Considerations

1. Work Schedules. STRLs may impose limitations on the number of hours a PAACTSEP student can work per week that are more restrictive than applicable laws and regulations governing overtime and hours of work. Supervisors and students should agree on a work schedule that does not interfere with the academic schedule and that supports timely completion of the educational program.

2. Break in Program. STRL directors may authorize PAACTSEP participation by students who are not attending classes at a qualifying educational institution or certificate program for a period of 120 days. The approval authority and criteria will be described in STRL IOPs.

3. Service Agreement. STRL IOPs will describe any service agreement requirement for students and recent graduates hired under this authority.

4. Training and Development. STRL IOPs will describe the training and development of students and recent graduates hired under this authority.

5. Performance evaluation. STRL IOPs will describe performance requirements and performance evaluations for students and recent graduates hired under this authority.

6. Extension/Termination of appointment. Temporary appointments expire upon the not-to-exceed date, unless extended. Flexible length and renewable student term appointments for PAACTSEP students will not exceed six year increments but will expire 120 days after completion of the designated academic course of study, unless the human resources office has been notified that the student will be noncompetitively converted to a permanent or term position as described in paragraph 2.II.C.2. Flexible length and renewable student term appointments may be extended if the individual continues to meet the definition of a “student” (i.e., enrolled in a qualifying academic program) as identified in Section 2.II.B.3 and meet any academic requirements specified by the employing STRL. Students may be terminated for reasons including, but not limited to, mission requirements/budget constraints, misconduct, poor performance (including academic), or suitability.

In cases where the STRL Director does not plan to convert the student to a permanent or term appointment, the PAACTSEP appointment may be terminated less than 120 days after completion of the designated academic course of study, subject to any applicable requirements of 5 U.S.C. chapter 75.

E. Evaluation

Procedures for evaluating this authority will be incorporated into the STRL demonstration project evaluation processes conducted by the STRLs, OUSD(R&E), or military department headquarters, as appropriate.

F. Reports

STRLs will track and provide information and data on the use of this authority when requested by the military department headquarters or OUSD(R&E).

Appendix A—Waivers to Title 5, U.S.C and Title 5 CFR
Title 5, United States Code | Title 5, Code of Federal Regulations
Subchapter I of chapter 33 of title 5 U.S.C. (other than sections 3303 and 3328). | 5 CFR 300-330, other than Subpart G of 300. Waived to the extent necessary to allow provisions of the direct hire authorities as described in this FRN.
5 U.S.C. 4108 (a)-(c)—Employee Agreements; Service after Training. Waived to allow: (1) the STRLs to determine if a service agreement is required and if so, to determine the period of required service for students employed under the Demo; (2) the Commanding Officer or the Laboratory STRL Director to waive in whole or in part a right of recovery; and (3) allow students to sign a service agreement up to three times the length of the training. | 5 CFR part 316, subparts C-D—Waived to the extent necessary to allow provisions of the direct hire authorities as described in this FRN.
5 U.S.C. 5753—Recruitment and relocation bonuses. Waived to the extent necessary to allow those STRL scientific and engineering employees and positions to be treated as employees and positions under the General Schedule and to allow relocation incentives to be paid to PAACTSEP students whose worksite is in a different geographic location than that of the college in which enrolled each time they return to duty. | 5 CFR 410.309—Waived to allow: (1) the STRLs to determine if a service agreement is required and if so, the period of required service for students employed under the demo; (2) the Commanding Officer or the STRL Director to waive in whole or in part a right of recovery; and (3) students to sign a service agreement up to three times the length of the training.
| 5 CFR part 575, subparts A and B—Recruitment and Relocation Incentives. Waived to the extent necessary to allow employees hired and positions under the PAACTSEP program to be treated as employees and positions under the General Schedule and to allow relocation incentives to be paid to PAACTSEP students whose worksite is in a different geographic location than that of the college in which enrolled each time they return to duty.

Appendix B—Authorized STRLs and FEDERAL REGISTER Notices
STRL | FEDERAL REGISTER Notice
Air Force Research Laboratory | 61 FR 60400, as amended by 75 FR 53076.
Joint Warfare Analysis Center | 85 FR 29414.
Army Futures Command | Not yet published.
Army Research Institute for Behavioral and Social Sciences | 85 FR 76038.
Combat Capabilities Development Command Armaments Center | 76 FR 3744.
Combat Capabilities Development Command Army Research Laboratory | 63 FR 10680.
Combat Capabilities Development Command Aviation and Missile Center | 62 FR 34906 and 62 FR 34876, as amended by 65 FR 53142 (AVRDEC and AMRDEC merged together).
Combat Capabilities Development Command Chemical Biological Center | 74 FR 68936.
Command, Control, Communications, Cyber, Intelligence, Surveillance, and Reconnaissance Center | 66 FR 54872.
Combat Capabilities Development Command Ground Vehicle Systems Center | 76 FR 12508.
Combat Capabilities Development Command Soldier Center | 74 FR 68448.
Engineer Research and Development Center | 63 FR 14580, as amended by 65 FR 32135.
Medical Research and Development Command | 63 FR 10440.
Technical Center, US Army Space and Missile Defense Command | 85 FR 3339.
Naval Air Systems Command Warfare Centers | 76 FR 8530.
Naval Facilities Engineering Command Engineering and Expeditionary Warfare Center | 86 FR 14084.
Naval Information Warfare Centers, Atlantic and Pacific | 76 FR 1924.
Naval Medical Research Center | Not yet published.
Naval Research Laboratory | 64 FR 33970.
Naval Sea Systems Command Warfare Centers | 62 FR 64050.
Office of Naval Research | 75 FR 77380.

Appendix C

Qualification Standards for STRL PAACTSEP Student Trainee Positions

The following table shows the amount of education required to qualify for appointments for PAACTSEP student positions covered by this FRN. Note: Equivalent combinations of education and experience are qualifying for all positions for which both education and experience are acceptable. Enrollment in an accredited academic institution is required. An academic year of undergraduate education is defined as 30 semester hours, 45-quarter hours, or the equivalent in an accredited college or university, or approximately 36 weeks for at least 20 classroom hours per week in an accredited business, technical, or secretarial school. See the “General Policies and Instructions” for the Qualification Standards Operating Manual for the definition of a full year of graduate education.

Requirements for STRL students in the Professional, Administrative, Assistant, Clerical, and Technician Student Employment Program):

Grade level or pay band equivalent | Level of education
GS-01 or Pay Band Equivalent | Enrollment in a high school diploma or General Education Diploma (GED) program.
GS-02 or Pay Band Equivalent | Completion of high school or GED diploma.
GS-03 or Pay Band Equivalent | Completion of 1 full academic year of post-high school study.
GS-04 or Pay Band Equivalent | Completion of 2 full academic years of post-high school study or an associate's degree.
GS-05 or Pay Band Equivalent | Completion of 4 academic years of post-high school study leading to a bachelor's or equivalent degree.
GS-07 or Pay Band Equivalent | Completion of 1 full academic year of graduate level education; or Eligibility under the Superior Academic Achievement Provision and completion of a bachelor's degree.
GS-09 or Pay Band Equivalent | Completion of 2 academic years of graduate level education, or a master's degree or equivalent graduate degree.
GS-11 or Pay Band Equivalent | For research positions, completion of all requirements for a master's or equivalent graduate degree. For non-research positions, completion of all requirements for a PhD or equivalent degree.

Appointments may be at the highest grade or pay band for which the participant is qualified. One full academic year of undergraduate; graduate; technical or high school education is the number of credit hours determined by the college, university or school to represent one year of full-time study. The high school curriculum must be approved by a State or local governing body. All education beyond the high school level must be accredited by an accrediting body or organization recognized by the U.S. Department of Education.

Special Provisions/or Students With Previous Related Education or Experience

Previous education and/or experience may be evaluated to determine the highest grade Level or pay band for which the student is qualified.

Dated: October 12, 2022.
Aaron T. Siegel,
Alternate OSD Federal Register Liaison Officer, Department of Defense.

[FR Doc. 2022-22527 Filed 10-14-22; 8:45 am]

BILLING CODE 5001-06-P